DEPARTMENT OF TRANSPORTATION

Federal Aviation Administration

14 CFR Part 39

[Docket No. FAA-2023-0661; Project Identifier MCAI-2022-00737-Q; Amendment 39-22510; AD 2023-14-10]

RIN 2120-AA64

Airworthiness Directives; Ipeco Pilot and Co-Pilot Seats

AGENCY: Federal Aviation Administration (FAA), DOT.

ACTION: Final rule.

SUMMARY: The FAA is superseding Airworthiness Directive (AD) 2019-21-06, which applied to certain Ipeco Holdings Limited (Ipeco) pilot and co-pilot seats. AD 2019-21-06 required modification and re-identification of the affected seats, initial and repetitive inspections of the affected track lock springs and, depending on the findings, replacement of the track lock springs with a part eligible for installation. Since the FAA issued AD 2019-21-06, the FAA determined the need for a mandatory terminating action to the track lock spring inspections. This AD is prompted by reports of track lock spring failures occurring on affected seats. This AD retains the requirements of AD 2019-21-06. This AD also adds a mandatory terminating action for the initial and repetitive inspections of the affected track lock springs. The FAA is issuing this AD to address the unsafe condition on these products.

DATES: This AD is effective September 7, 2023.

The Director of the Federal Register approved the incorporation by reference of certain publications listed in this AD as of September 7, 2023.

The Director of the Federal Register approved the incorporation by reference of certain other publications listed in this AD as of December 12, 2017 (82 FR 51552, November 7, 2017); and December 13, 2019 (84 FR 60325, November 8, 2019).

ADDRESSES:

AD Docket: You may examine the AD docket at regulations.gov under Docket No. FAA-2023-0661; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Ipeco Holdings Limited, Aviation Way, Southend on Sea, SS2 6UN, United Kingdom; phone: +44 1702 545118; fax: +44 1702 540782; email: technicalsupport@ipeco.com.

• You may view this service information at the FAA, Airworthiness Products Section, Operational Safety Branch, 1200 District Avenue, Burlington, MA 01803. For information on the availability of this material at the FAA, call (817) 222-5110. It is also available at regulations.gov under Docket No. FAA-2023-0661.

FOR FURTHER INFORMATION CONTACT: Kevin Kung, Aviation Safety Engineer, FAA, 1600 Stewart Avenue, Suite 410, Westbury, NY 11590; phone: (781) 238-7244; email: 9-AVS-AIR-BACO-COS@faa.gov.

SUPPLEMENTARY INFORMATION:

Background

The FAA issued a notice of proposed rulemaking (NPRM) to amend 14 CFR part 39 to supersede AD 2019-21-06, Amendment 39-19772 (84 FR 60325, November 8, 2019) (AD 2019-21-06). AD 2019-21-06 applied to Ipeco pilot and co-pilot seats with a part number (P/N) listed in Paragraph 1.A., Planning Information, Tables 1 and 2, of Ipeco Service Bulletin (SB) Number 063-25-14, Revision 00, dated August 14, 2018, and Ipeco pilot seat P/N 3A063-0099-01-1 and Ipeco co-pilot seat P/N 3A063-0100-01-1. AD 2019-21-06 was prompted by an MCAI originated by the European Aviation Safety Agency (EASA), which is the Technical Agent for the Member States of the European Union. EASA issued EASA AD 2018-0262, dated December 6, 2018 (EASA AD 2018-0262), to correct an unsafe condition identified as reports of track lock spring failures occurring on affected seats, including those seats already modified by EASA AD 2016-0256, dated December 16, 2016 (EASA AD 2016-0256). AD 2019-21-06 required modification and re-identification of the affected seats, initial and repetitive inspections of the affected track lock springs and, depending on the findings, replacement of the track lock springs with a part eligible for installation. The FAA issued AD 2019-21-06 to prevent unexpected movement of pilot and co-pilot seats on takeoff and landing.

The NPRM published in the Federal Register on April 10, 2023 (88 FR 21114). The NPRM was prompted by United Kingdom (UK) Civil Aviation Authority (CAA) AD G-2022-0011, dated June 9, 2022 (referred to after this as the MCAI), issued by UK CAA, which is the aviation authority for the UK. The MCAI states that occurrences of track lock spring failures continued to be reported, including seats already modified, as instructed by EASA AD 2016-0256. Consequently, the manufacturer published revised service information, which specifies instructions for inspection and replacement, if necessary, of affected track lock springs; and EASA issued EASA AD 2018-0262 to supersede EASA AD 2016-0256, which retained the modification and re-identification; and introduced new instructions to inspect for damage and incorrect installation of the track lock springs and, if necessary, replacement of both track lock springs of the affected seat. The MCAI supersedes EASA AD 2018-0262; removes the previous instructions for modification and re-identification; retains the inspection for damage and incorrect installation of the track lock springs; and introduces new instructions for replacement of the affected track lock springs and lever, and installation of a track lock lever control placard (modification and re-identification) as terminating action.

You may examine the MCAI in the AD docket at regulations.gov under Docket No. FAA-2023-0661.

In the NPRM, the FAA proposed to retain all of the requirements of AD 2019-21-06. The FAA also proposed to add a mandatory terminating action (modification and re-identification of each affected seat) for the initial and repetitive inspections of the affected track lock springs. The FAA is issuing this AD to prevent unexpected movement of pilot and co-pilot seats on takeoff and landing.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes this AD is adopted as proposed in the NPRM.

Related Service Information Under 1 CFR Part 51

The FAA reviewed Ipeco SB Number 063-25-15, Issue 2; SB Number 063-25-16, Issue 2; SB Number 063-25-17, Issue 2; and SB Number 063-25-18, Issue 2; all dated March 8, 2022. These SBs provide instructions for removal and replacement of the track lock levers and springs and installation of a track lock lever control placard.

This AD also requires Ipeco SB Number 063-25-08, Revision 00; SB Number 063-25-09, Revision 00; and SB Number 063-25-10, Revision 00; all dated May 31, 2016, which the Director of the Federal Register approved for incorporation by reference as of December 12, 2017 (82 FR 51552, November 7, 2017).

This AD also requires Ipeco SB Number 063-25-14, Revision 00, dated August 14, 2018, which the Director of the Federal Register approved for incorporation by reference as of December 13, 2019 (84 FR 60325, November 8, 2019).

This service information is reasonably available because the interested parties have access to it through their normal course of business or by the means identified in ADDRESSES.

Costs of Compliance

The FAA estimates that this AD affects 120 pilot and co-pilot seats installed on, but not limited to, ATR 42 and ATR 72 airplanes of U.S. registry. The FAA estimates that seats installed on 34 ATR 42 airplanes and seats installed on 21 ATR 72 airplanes require modification and inspection.

The FAA estimates the following costs to comply with this AD:

Estimated Costs
Action | Labor cost | Parts cost | Cost per product | Cost on U.S. operators
Inspect ATR 42 or ATR 72 flight crew seats | 0.25 work-hours × $85 per hour = $21.25 | $0 | $21.25 | $2,550
Modify ATR 42 or ATR 72 flight crew seats | 2 work-hours × $85 per hour = $170 | 56 | 226 | 27,120
Report results of ATR 42 or ATR 72 inspection | 1 work-hour × $85 per hour = $85 | 0 | 85 | 10,200
Modify ATR 42 or ATR 72 flight crew seats per mandatory terminating action | 2.5 work-hours × $85 per hour = $212.50 | 56 | 268.50 | 32,220

The FAA estimates the following costs to do any necessary replacements that would be required based on the results of the inspection. The agency has no way of determining the number of aircraft that might need these replacements:

On-Condition Costs
Action | Labor cost | Parts cost | Cost per product
Remove seat and replace ATR 42 track lock spring | 1.5 work-hours × $85 per hour = $127.50 | $28 | $155.50
Remove seat and replace ATR 72 track lock spring | 1.5 work-hours × $85 per hour = $127.50 | 28 | 155.50

The FAA has included all known costs in its cost estimate. According to the manufacturer, however, some of the costs of this AD may be covered under warranty, thereby reducing the cost impact on affected operators.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, part A, subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2019-21-06, Amendment 39-19772 (84 FR 60325, November 8, 2019); and

b. Adding the following new airworthiness directive:

2023-14-10 Ipeco Holdings Limited: Amendment 39-22510; Docket No. FAA-2023-0661; Project Identifier MCAI-2022-00737-Q.

(a) Effective Date

This airworthiness directive (AD) is effective September 7, 2023.

(b) Affected ADs

This AD replaces AD 2019-21-06, Amendment 39-19772 (84 FR 60325, November 8, 2019); (AD 2019-21-06).

(c) Applicability

(1) This AD applies to:

(i) Ipeco Holdings Limited (Ipeco) pilot and co-pilot seats with a part number (P/N) listed in Paragraph 1.A., Planning Information, Tables 1 and 2, of Ipeco Service Bulletin (SB) Number 063-25-14, Revision 00, dated August 14, 2018, and

(ii) Ipeco pilot seat P/N 3A063-0099-01-1 and Ipeco co-pilot seat P/N 3A063-0100-01-1.

(2) These seats are installed on, but not limited to, ATR-GIE Avions de Transport Régional ATR 42 and ATR 72 airplanes.

(d) Subject

Joint Aircraft System Component (JASC) Code 2510, Flight Compartment Equipment.

(e) Unsafe Condition

This AD was prompted by reports of track lock spring failures occurring on affected seats. The FAA is issuing this AD to prevent unexpected movement of pilot and co-pilot seats on takeoff and landing. The unsafe condition, if not addressed, could result in reduced control of the airplane.

(f) Compliance

Comply with this AD within the compliance times specified, unless already done.

(g) Retained Modification and Re-Identification of Seats, Inspections and Replacement of Track Lock Spring, and Reporting With No Changes

This paragraph retains the requirements of paragraph (g) of AD 2019-21-06, with no changes.

(1) For seats that have not installed the track lock spring modification kit, within two years after December 12, 2017 (the effective date of AD 2017-22-02, Amendment 39-19082 (82 FR 51552, November 7, 2017)), modify and re-identify each affected pilot and co-pilot seat using the Accomplishment Instructions of Ipeco SB Number 063-25-08, Revision 00; Ipeco SB Number 063-25-09, Revision 00; or Ipeco SB Number 063-25-10, Revision 00; all dated May 31, 2016, as applicable to each affected seat.

(2) For all affected seats:

(i) Within 750 flight hours (FHs) after December 13, 2019 (the effective date of AD 2019-21-06), and, thereafter at intervals not to exceed 750 FHs, inspect the track lock spring of each seat in accordance with the Accomplishment Instructions, paragraph 3.2, of Ipeco SB Number 063-25-14, Revision 00, dated August 14, 2018.

(ii) If, during any inspection as required by paragraph (g)(2)(i) of this AD, any damage on, or incorrect installation of, any track lock spring is found on the pilot or co-pilot seat, before further flight, replace both track lock springs of the affected seat with a part eligible for installation using the Accomplishment Instructions, paragraph 3.3.3.1 or 3.3.3.2, as applicable, of Ipeco SB Number 063-25-14, Revision 00, dated August 14, 2018.

(3) Within 30 days after the initial and repetitive inspections, and thereafter for two years after December 13, 2019 (the effective date of AD 2019-21-06), send the inspection results, including no findings, to Ipeco at technicalsupport@ipeco.com.

(h) New Mandatory Terminating Action

As a mandatory terminating action to the inspections required by paragraph (g)(2)(i) of this AD, within 12 months after the effective date of this AD, or at the next Base Maintenance check, whichever occurs later, modify and re-identify each affected seat in accordance with the Accomplishment Instructions of Ipeco SB Number 063-25-15, Issue 2; SB Number 063-25-16, Issue 2; SB Number 063-25-17, Issue 2; or SB Number 063-25-18, Issue 2; all dated March 8, 2022, as applicable to each affected seat.

(i) Installation Prohibition

After the effective date of this AD, do not install any pilot or co-pilot seat identified in paragraph (c)(1)(i) of this AD unless the seat is modified and re-identified as specified in paragraph (g)(1) of this AD.

(j) Definitions

(1) For the purpose of this AD, “damage” includes cracks, breaks, corrosion, or deformation of the track lock spring.

(2) For the purpose of this AD, “incorrect installation” is an installed track lock spring that is at an angle or position different from the angle or position shown in Figures 6 and 7 of Ipeco SB Number 063-25-14, Revision 00, dated August 14, 2018.

(3) For the purpose of this AD, a “part eligible for installation” is:

(i) A modified seat provided, before installation, it has passed an inspection (no damage is found); and

(ii) A track lock spring provided that it passed an inspection (no damage is found).

(k) Credit for Previous Actions

You may take credit for the actions required by paragraph (g)(2)(ii) of this AD if the actions were performed before the effective date of this AD using ATR SB No. ATR42-25-0191, Original Issue, dated July 4, 2016; ATR SB No. ATR42-25-0191, Revision No. 01, dated July 20, 2016; or ATR SB No. ATR72-25-1157, Revision No. 02, dated March 9, 2017.

(l) Special Flight Permits

Special flight permits are prohibited.

(m) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (n)(2) of this AD.

(2) Before using any approved AMOC, notify your appropriate principal inspector, or lacking a principal inspector, the manager of the local flight standards district office/certificate holding district office.

(n) Additional Information

(1) Refer to United Kingdom (UK) Civil Aviation Authority (CAA) AD G-2022-0011, dated June 9, 2022, for related information. This UK CAA AD may be found in the AD docket at regulations.gov under Docket No. FAA-2023-0661.

(2) For more information about this AD, contact Kevin Kung, Aviation Safety Engineer, FAA, 1600 Stewart Avenue, Suite 410, Westbury, NY 11590; phone: (781) 238-7244; email: 9-AVS-AIR-BACO-COS@faa.gov.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 7, 2023.

(i) Ipeco Service Bulletin (SB) Number 063-25-15, Issue 2, dated March 8, 2022.

(ii) Ipeco SB Number 063-25-16, Issue 2, dated March 8, 2022.

(iii) Ipeco SB Number 063-25-17, Issue 2, dated March 8, 2022.

(iv) Ipeco SB Number 063-25-18, Issue 2, dated March 8, 2022.

(4) The following service information was approved for IBR on December 13, 2019 (84 FR 60325, November 8, 2019).

(i) Ipeco SB Number 063-25-14, Revision 00, dated August 14, 2018.

(ii) [Reserved]

(5) The following service information was approved for IBR on December 12, 2017 (82 FR 51552, November 7, 2017).

(i) Ipeco SB Number 063-25-08, Revision 00, dated May 31, 2016.

(ii) Ipeco SB Number 063-25-09, Revision 00, dated May 31, 2016.

(iii) Ipeco SB Number 063-25-10, Revision 00, dated May 31, 2016.

(6) For Ipeco service information identified in this AD, contact Ipeco Holdings Limited, Aviation Way, Southend On Sea, SS2 6UN, United Kingdom; phone: +44 1702 545118; email: technicalsupport@ipeco.com.

(7) You may view this service information at FAA, Airworthiness Products Section, Operational Safety Branch, 1200 District Avenue, Burlington, MA 01803. For information on the availability of this material at the FAA, call (817) 222-5110.

(8) You may view this service information that is incorporated by reference at the National Archives and Records Administration (NARA). For information on the availability of this material at NARA, email: fr.inspection@nara.gov, or go to: www.archives.gov/federal-register/cfr/ibr-locations.html.

Issued on July 13, 2023.
Victor Wicklund,
Deputy Director, Compliance & Airworthiness Division, Aircraft Certification Service.

[FR Doc. 2023-16540 Filed 8-2-23; 8:45 am]

BILLING CODE 4910-13-P